DEPARTMENT OF EDUCATION

[ED-2025-FSA-0713]

Request for Information on Developing and Implementing a Common Manual for the Federal Direct Loan Program; Correction

AGENCY: Office of Federal Student Aid, Department of Education.

ACTION: Request for Information; correction.

SUMMARY: On September 8, 2025 the U.S. Department of Education published a request for information in the Federal Register seeking public comment on a request for information on developing and implementing a common manual for the Federal Direct Loan program. The document contained the incorrect Docket ID Number, FSA-XXXX-XXXX.

SUPPLEMENTARY INFORMATION: The Acting Chief Operating Officer, Federal Student Aid, hereby issues a correction notice as required by the Paperwork Reduction Act.

Correction

In the Federal Register of September 8, 2025, FR Doc. 2025-17216, at 90 FR 43181, in column 3; page 43181, columns 1, 2, and 3; page 43183, columns 1, 2, and 3; page 43184, columns 1, 2, and 3, the Docket ID Number is corrected to read: ED-2025-FSA-0713.

James Bergeron,
Acting Chief Operating Officer, Federal Student Aid.

[FR Doc. 2025-17766 Filed 9-12-25; 8:45 am]

BILLING CODE P